DEPARTMENT OF ENERGY

Federal Energy Regulatory Commission

[Project No. 7274-035]

Town of Wells; Notice of Intent To Prepare an Environmental Assessment

On July 31, 2023, the Town of Wells filed a relicense application for the 698-kilowatt Lake Algonquin Hydroelectric Project No. 7274 (Lake Algonquin Project or project). The project is located on the Sacandaga River in the Town of Wells, Hamilton County, New York.

In accordance with the Commission's regulations, on June 25, 2025, Commission staff issued a notice that the Lake Algonquin Project was ready for environmental analysis (REA Notice). Based on the information in the record, including comments filed on the REA Notice, staff does not anticipate that licensing the Lake Algonquin Project would constitute a major federal action significantly affecting the quality of the human environment. Therefore, staff intend to prepare an Environmental Assessment (EA) on the application to relicense the Lake Algonquin Project.¹

¹ For tracking purposes under the National Environmental Policy Act, the unique identification number for documents relating to this environmental review is EAXX-019-20-000-1755775659.

The EA will be issued and circulated for review by all interested parties. All comments filed on the EA will be analyzed by staff and considered in the Commission's final licensing decision.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

The application will be processed according to the following schedule. The EA will be issued for a 30-day comment period. Revisions to the schedule may be made as appropriate.

Milestone | Target date
Commission issues EA | September 8, 2026.

Any questions regarding this notice may be directed to Samantha Pollak at (202) 502-6419 or via email at samantha.pollak@ferc.gov.

Dated: September 8, 2025.
Debbie-Anne A. Reese,
Secretary.

[FR Doc. 2025-17578 Filed 9-10-25; 8:45 am]

BILLING CODE 6717-01-P